NUCLEAR REGULATORY COMMISSION

Advisory Committee on Reactor Safeuards Subcommittee Meeting on Fire Protection; Notice of Meeting

The ACRS Subcommittee on Fire Protection will hold a meeting on May 17, 2005, Room T-2B3, 11545 Rockville Pike, Rockville, Maryland.

The entire meeting will be open to public attendance.

The agenda for the subject meeting shall be as follows: Tuesday, May 17, 2005—8:30 a.m. until 12 Noon.

The purpose of this meeting is to discuss the Draft Regulatory Guide, DG-1139, “Risk-Informed, Performance-Based Fire Protection for Existing Light-Water Nuclear Power Plants.” This regulatory guide provides guidance for use in complying with the requirements that the U.S. Nuclear Regulatory Commission (NRC) has promulgated for risk-informed, performance-based fire protection programs that meet the requirements of Title 10, Section 50.48(c), of the Code of Federal Regulations (10 CFR 50.48(c)) and the 2001 Edition of the National Fire Protection Association (NFPA) standard, NFPA 805, “Performance-Based Standard for Fire Protection for Light-Water Reactor Electric Generating Stations.” The Subcommittee will hear presentations by and hold discussions with the NRC staff, representatives of the Electric Power Research Institute (EPRI), and other interested persons regarding this matter. The Subcommittee will gather information, analyze relevant issues and facts, and formulate proposed positions and actions, as appropriate, for deliberation by the full Committee.

Members of the public desiring to provide oral statements and/or written comments should notify the Designated Federal Official, Dr. Hossein P. Nourbakhsh (Telephone: (301) 415-5622) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: April 27, 2005.
Michael L. Scott,
Branch Chief, ACRS/ACNW.

[FR Doc. E5-2172 Filed 5-3-05; 8:45 am]

BILLING CODE 7590-01-P